DEPARTMENT OF AGRICULTURE

Submission for OMB Review; Comment Request

February 16, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 25, 2022 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number, and the agency informs potential persons who are to respond to the collection of information that such persons are not required to respond to the collection of information unless it displays a currently valid OMB control number.

Animal Plant and Health Inspection Service

Title: Virus-Serum-Toxin Act and Regulations in 9 CFR, Subchapter E, Parts 101-124.

OMB Control Number: 0579-0013.

Summary of Collection: The Virus-Serum-Toxin Act (U.S.C. 151-159) gives the United States Department of Agriculture, the Animal and Plant Health Inspection Service (APHIS) the authority to promulgate regulations designed to prevent the importation, preparation, sale, or shipment of harmful veterinary biological products. A veterinary biological product is defined as all viruses, serums, toxins, and analogous products of natural or synthetic origin (such as vaccines, antitoxins, or the immunizing components of microorganisms intended for the diagnosis, treatment, or prevention of diseases in domestic animals).

Need and Use of the Information: APHIS uses the information collected as a primary basis for the approval or acceptance of issuing licenses or permits to ensure veterinary biological products that are used in the United States are pure, safe, potent, and effective. Failure to collect this information in a timely manner could result in harmful veterinary biologics being distributed or used in the United States. Consequently, injuries to animals or failure to prevent disease outbreaks would severely undermine consumer confidence in the effectiveness and safety of these products. Further, catastrophic damage could be inflicted upon U.S. livestock industries and pet populations and bring great harm to the U.S. economy and veterinary biologics industry.

Description of the Respondents: Businesses or other for profit, Foreign and State Governments, Private Individuals.

Number of Respondents: 478.

Frequency of Responses: Recordkeeping; Third Party Disclosure; Reporting: On occasion.

Total Burden Hours: 43,072.

Animal and Plant Health Inspection Service

Title: Animal Disease Traceability.

OMB Control Number: 0579-0327.

Summary of Collection: The Animal Health Protection Act of 2002 (7 U.S.C. 8301-8317) is the primary Federal law governing the protection of animal health. The law gives the Secretary of Agriculture broad authority to detect, control, or eradicate pests or diseases of livestock or poultry. The Veterinary Services unit (VS) of the Animal and Plant Health Inspection Service (APHIS) uses disease control to safeguard U.S. animal health. One important part of disease control is animal disease traceability. Animal disease traceability means being able to document the movement history of an animal throughout its life. Knowing where diseased and at-risk animals have been and are located, as well as when they have been there, is indispensable during an emergency response and important for ongoing disease programs. Traceability helps document the movement history of an animal throughout its life, including during an emergency response or for ongoing animal disease programs.

Need and Use of the Information: APHIS uses the following information collection activities and forms to facilitate Animal Disease Traceability (ADT) and support disease control, eradication, and surveillance activities. Within the ADT framework, official animal identification devices give a nationally unique identification number for livestock animals that require official identification. The distribution and use of official identification devices require some information collection activities. If this information was not collected, APHIS' ability to address traceability needs would be significantly hampered.

Description of Respondents: State, Local, or Tribal Government; Businesses.

Number of Respondents: 273,587.

Frequency of Responses: Recordkeeping; Reporting: On occasion.

Total Burden Hours: 1,518,339.

Ruth Brown,
Departmental Information Collection Clearance Officer.

[FR Doc. 2022-03741 Filed 2-22-22; 8:45 am]

BILLING CODE 3410-34-P